ENVIRONMENTAL PROTECTION AGENCY

[FRL-6987-6]

Proposed CERCLA Administrative Settlement Agreement—Service First Barrel and Drum Site, Salt Lake City, Salt Lake County, UT

AGENCY: Environmental Protection Agency (EPA).

ACTION: Notice and request for public comment.

SUMMARY: In accordance with the requirements of section 122(h)(1) of the Comprehensive Environmental Response, Compensation, and Liability Act, as amended (“CERCLA”), 42 U.S.C. 9622(h)(1), notice is hereby given of the proposed administrative settlement under section 122(h) of CERCLA, 42 U.S.C. 9622(h), concerning the Service First Barrel and Drum site between EPA, and Miguel A. Alpizar and Sylvia P. Orozco (“Settling Parties”). The Service First Barrel and Drum Site, is located at 1066 South Redwood Road, in Salt Lake City, Salt Lake County, Utah (the “Site”). The settlement, embodied in the proposed Administrative Settlement Agreement, EPA Docket No. CERCLA-8-2001-05 (“Agreement”), is designed to resolve the Settling Parties” liability at the Site through a covenant not to sue for all response costs incurred and to be incurred in connection with removal activities at the Site.

Miguel A. Alpizar and Sylvia P. Orozco are the owners of one of the parcels of land which comprise the Site. Settling Parties purchased the parcel of land where a former drum cleaning and reconditioning business had been conducted. At the time of purchase, and pursuant to the Real Estate Purchase Contract, the seller agreed to take full responsibility for any and all necessary remediation procedures required to cleanup any contamination on the property. The proposed Agreement is a cash-out of the Settling Parties' liability under section 107(a)(1) of CERCLA, 42 U.S.C. 9607(a)(1). Under the terms of the proposed Agreement, the Settling Parties agree to grant access to all parties conducting removal activities at the Site and will reimburse the United States the sum of $2,000. In exchange, the Settling Parties will settle their liability for all response costs incurred at the Site in connection with the planned removal activities and will receive contribution protection from other parties associated with the Site.

OPPORTUNITY FOR COMMENT: For thirty (30) days following the date of publication of this notice, the Agency will consider all comments received and may modify or withdraw its consent to the settlement if comments received disclose facts or considerations which indicate that the settlement is inappropriate, improper, or inadequate. The Agency's response to any comments received will be available for public inspection at the EPA Superfund Record Center, 999 18th Street, 5th Floor, in Denver, Colorado.

DATES: Comments must be submitted on or before June 29, 2001.

ADDRESSES: The proposed settlement and additional background information relating to the settlement are available for public inspection at the EPA Superfund Records Center, 999 18th Street, 5th Floor, in Denver, Colorado. Comments and requests for a copy of the proposed settlement should be addressed to Carol Pokorny, Enforcement Specialist (8ENF-T), Technical Enforcement Program, U.S. Environmental Protection Agency, 999 18th Street, Suite 300, Denver, Colorado 80202-2466, and should reference the Service First Barrel and Drum Site, Salt Lake City, Utah and the EPA Docket No. CERCLA-8-2001-05.

FOR FURTHER INFORMATION CONTACT: Carol Pokorny, Enforcement Specialist (8ENF-T), Technical Enforcement Program, U.S. Environmental Protection Agency, 999 18th Street, Suite 300, Denver, Colorado 80202-2466, (303) 312-6970.

It Is So Agreed.
Dated: May 17, 2001.
Carol Rushin,
Assistant Regional Administrator, Office of Enforcement, Compliance and Environmental Justice, Region VIII.

[FR Doc. 01-13510 Filed 5-29-01; 8:45 am]

BILLING CODE 6560-50-P